ENVIRONMENTAL PROTECTION AGENCY

[FRL-6871-9]

Application From the States of Utah and Arizona for the Prohibition of the Discharge of Vessel Sewage Into Lake Powell; Notice of Determination

This notice is to announce that discharging sewage, whether treated or not, from vessels into Lake Powell is now prohibited.

Lake Powell is a reservoir on the Colorado River and is impounded by the Glen Canyon Dam at Page, Arizona. Approximately 95 percent of Lake Powell is located in Utah and 5 percent is in Arizona. The States of Utah and Arizona have jointly petitioned the Regional Administrators from Regions 8 and 9 of the United States Environmental Protection Agency (EPA) to prohibit the discharge of sewage from all vessels into Lake Powell. Under section 312(f)(3) of the Clean Water Act, 33 U.S.C. 1322(f)(3), any state may make a prohibition of this type. However, no such prohibition is to apply until the EPA has determined that adequate facilities are reasonably available for the safe and sanitary removal and treatment of sewage from all vessels on the water to be covered by the prohibition.

On May 22, 2000, the EPA published a notice in the Federal Register describing the States' application. (See 65 FR 32093.) In the notice, the EPA announced that it proposed to make an affirmative determination that adequate facilities exist. The EPA also asked for comments on the States' application. The 45-day public comment period ended on July 6, 2000, and the EPA received no comments.

Today the EPA is finalizing its determination that adequate facilities are reasonably available for the safe and sanitary removal and treatment of sewage from all vessels on Lake Powell. With this determination, the States' prohibition against discharging any sewage, whether treated or not, from any vessel into Lake Powell is now in effect.

According to the States' application, jurisdictional and enforcement authority for this prohibition will reside with the respective States and the National Park Service. The Utah Department of Environmental Quality, the Utah Department of Natural Resources, the Arizona Department of Environmental Quality, the Arizona Department of Fish and Game, the United States Coast Guard and the National Park Service, and Glen Canyon National Recreation Area, will all be the enforcing agents supporting the prohibition. The Navajo Nation bounds on the southeast portion of Lake Powell, but the jurisdiction of the Navajo Nation is not affected by the application of Utah and Arizona.

The States' application certifies that there are six authorized vessel entry/take-out points on the Lake: Wahweap, Stateline, Hite, Bullfrog, Hall's Crossing, and Antelope Point. The first five locations have major pumpout facilities. Due to the geomorphology of the Lake, it is nearly impossible to remove or launch a vessel from any other point on the Lake. A major water accessible vessel pumpout facility is also located at Dangling Rope. Each major facility has multiple pumps. In addition, eight supplemental mechanically operated floating pump out facilities are located at various areas on the Lake. These pumps are: Warm Creek Bay, located in Warm Creek Bay; Dominiquez Butte, near Lake Powell Channel Mile Marker 22; Rock Creek, near Lake Powell Channel Mile Marker 35; Oak Bay, located near Lake Powell Channel Mile Marker 51; Escalante, located near Lake Powell Channel Mile Marker 68A; Rincon, near Lake Powell Channel Mile Marker 77A; Hall's Creek Bay, located in Hall's Creek Bay on the Eastside; and Forgotten Canyon, near Lake Powell Channel Mile Marker 106. There is a total of sixty-nine pumpouts on the Lake. All the facilities identified above are operational 24 hours per day. None of the facilities identified will exclude any vessel because of insufficient water depth adjacent to the facility. There are no fees to pump out at any facility. Treatment of all wastes from the pumpout facilities is to be in conformance with Federal law. This prohibition action is, therefore, intended to prevent discharge of human wastes to the waters of the Lake to protect public health and the water quality of this important national resource.

For information, contact Douglas Johnson (8EPR-EP), U.S. Environmental Protection Agency, Region 8, 999 18th Street (Suite 300), Denver, Colorado, 80202-2466. He can also be reached at (303) 312-6834.

Dated: September 1, 2000.
Rebecca W. Hanmer,
Acting Regional Administrator, EPA Region 8.
Dated: August 30, 2000.
Laura Yoshii,
Deputy Regional Administrator, EPA Region 9.

[FR Doc. 00-24049 Filed 9-18-00; 8:45 am]

BILLING CODE 6560-50-P